DEPARTMENT OF THE INTERIOR

National Park Service

[NPS-WASO-NRNHL-18266; PPWOCRADI0, PCU00RP14.R50000]

National Register of Historic Places; Notification of Pending Nominations and Related Actions

Nominations for the following properties being considered for listing or related actions in the National Register were received by the National Park Service before May 2, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by June 15, 2015. Before including your address, phone number, email address, or other personal identifying information in your comment, you should be aware that your entire comment—including your personal identifying information—may be made publicly available at any time. While you can ask us in your comment to withhold your personal identifying information from public review, we cannot guarantee that we will be able to do so.

Dated: May 6, 2015.
J. Paul Loether,
Chief, National Register of Historic Places/National Historic Landmarks Program.

ARIZONA

Maricopa County

Boardwalk Apartments Historic District, Address Restricted, Phoenix, 15000342

IOWA

Washington County

Baxter, H.A., Coal Company Historic District, 601 E. 3rd St., Washington, 15000343

McCleery Calendar Factory, 632 E. 3rd St., Washington, 15000344

LOUISIANA

Catahoula Parish

Harrisonburg Methodist Church, 105 Pine St., Harrisonburg, 15000345

Orleans Parish

New Orleans Federal Savings and Loan Building, 4948 Chef Menteur Hwy., New Orleans, 15000346

Terrebonne Parish

Houma Elementary School, 711 Grinage St., Houma, 15000347

West Feliciana Parish

Dawson, John S., High School, 7565 Tunica Trace, St. Francisville, 15000348

MARYLAND

Washington County

Packhouse Ford, Potomac R. at Canal Rd., Sharpsburg, 15000349

MASSACHUSETTS

Dukes County

Hill, Polly, Arboretum Historic District, 795-833 State Rd., West Tisbury, 15000350

Essex County

Bradford Burial Ground, 326 Salem St., Haverhill, 15000351

Plymouth County

Centre and Montello Streets Historic District, 43-51, 53-61, 63-77, 91-93 Centre & 95, 124-126 Montello Sts., Brockton, 15000352

MICHIGAN

Gogebic County

Rice Bay, Indian Village Rd., Watersmeet Township, 15000353

MISSOURI

Cape Girardeau County

Broadway Theatre, 805 Broadway, Cape Girardeau, 15000354

NEW MEXICO

Socorro County

Gran Quivera Historic District, Along NM 55 approx. 25 mi. N. of Mountainair, Mountainair, 15000355

WISCONSIN

Dane County

Sunset Hills Historic District, Bounded by Owen Pkwy., Regent & Larkin Sts., Hillcrest Dr., Madison, 15000356

WYOMING

Natrona County

Pathfinder Dam Historic District, 12 mi. SW. of Alcova, Alcova, 15000357

A request for removal has been made for the following resources:

UTAH

Davis County

Young Men's Hall—Tingey House, 85 South 300 East, Centerville, 97001324

Salt Lake County

Carlson Hall, (Public Works Buildings TR) 369 S. University St., Salt Lake City, 96000414

Granite Lumber Company Building, (Sugar House Business District MPS) 1090 East 2100 South, Salt Lake City, 03000629

Utah—Idaho Sugar Factory, 2140 W. Sugar Factory Rd., West Jordan, 09000018

Utah Slaughter Company Warehouse, (Salt Lake City Business District MRA) 370 W. 100 South, Salt Lake City, 82004148

[FR Doc. 2015-12994 Filed 5-28-15; 8:45 am]

BILLING CODE 4312-51-P